DEPARTMENT OF JUSTICE

Antitrust Division

Notice Pursuant to the National Cooperative Research and Production Act of 1993; National Center for Manufacturing Sciences, Inc. (“NCMS”): Advanced Embedded Passives Technology

Notice is hereby given that, on August 5, 1999, pursuant to section 6(a) of the National Cooperative Research and Production Act of 1993, 15 U.S.C. 4301 et seq. (“the Act”), National Center for Manufacturing Sciences, Inc. (“NCMS”): Advanced Embedded Passives Technology has filed written notifications simultaneously with the Attorney General and the Federal Trade Commission disclosing changes in its membership status. The notifications were filed for the purpose of extending the Act's provisions limiting the recovery of antitrust plaintiffs to actual damages under specified circumstances. Specifically, Electro Scientific Industries, Inc., Portland, OR; and MicroFab Technologies, Inc., Plano, TX have been added as parties to this venture.

No other changes have been made in either the membership or planned activity of the group research project. Membership in this group research project remains open, and National Center for Manufacturing Sciences, Inc. (“NCMS”): Advanced Embedded Passives Technology intends to file additional written notification disclosing all changes in membership.

On October 7, 1998, National Center for Manufacturing Sciences, Inc. (“NCMS”): Advanced Embedded Passives Technology filed its original notification pursuant to section 6(a) of the Act. The Department of Justice published a notice in the Federal Register pursuant to section 6(b) of the Act on January 22, 1999 (64 FR 3571).

The last notification was filed with the Department on February 3, 1999. A notice was published in the Federal Register pursuant to section 6(b) of the Act on June 1, 1999 (64 FR 29357).

Constance K. Robinson,
Director of Operations, Antitrust Division.

[FR Doc. 00-6952 Filed 3-20-00; 8:45 am]

BILLING CODE 4410-11-M